FEDERAL ELECTION COMMISSION

[Notice 2007-1]

Privacy Act of 1974; Systems of Records

AGENCY: Federal Election Commission.

ACTION: Proposed Notice of Revised System of Records.

SUMMARY: In accordance with the Privacy Act of 1974, as amended, 5 U.S.C. 552a, the Federal Election Commission (“the Commission” or “the FEC”) is publishing for comment a revised system of records that is maintained by the Commission. The system entitled Inspector General Investigative Records (FEC 12) has been revised to: include additional routine uses (3 through 17); expand the list of “Categories of records in the system;” include additional data elements required for systems of records notices, including “Security Classification,” “Purpose,” “Disclosure to consumer reporting agencies,” and “Exemptions claimed for the system;” and incorporate administrative and technical changes that have taken place since the last publication of FEC systems of records on December 15, 1997. 62 FR 65694. The minor changes include: clarifying the “System location;” adding new language to explain but not increase the “Categories of individuals covered by the system;” clarifying the language for “Storage;” adding new language under “Retrievability;” expanding the “Safeguards;” adding language to “Retention and disposal;” making a technical change to the “System manager(s);” clarifying the “Notification,” “Record access,” and “Contesting record” procedures; and updating the “Record source categories.” The revised system of records should provide improved protection for the privacy rights of individuals.

DATES: Comments on the proposed revisions to the existing records system, must be received no later than February 23, 2007. The revisions will be effective March 5, 2007 unless the Commission receives comments that would result in a contrary determination.

ADDRESSES: Comments should be addressed in writing to Thomasenia P. Duncan, Privacy Act Officer, Federal Election Commission, 999 E Street, NW., Washington, DC 20463, and must be received by close of business on February 23, 2007. Comments also may be sent via electronic mail to Privacy@fec.gov.

SUPPLEMENTARY INFORMATION: The primary purpose for this publication is to revise a system of records maintained by the FEC. The FEC has undertaken a review of its Privacy Act system of records, and as a result of this review, the FEC proposes to amend the system entitled Inspector General Investigative Files (FEC 12) to: include additional routine uses (3 through 17); expand the list of “Categories of records in the system;” include additional data elements required in a system of records, including “Security classification,” “Purpose,” “Disclosure to consumer reporting agencies,” and “Exemptions claimed for the system;” and incorporate administrative and technical changes that have taken place since the last publication. The minor changes include: clarifying the “System location;” adding new language to explain but not increase the “Categories of individuals covered by the system;” clarifying the language for “Storage;” adding new language under “Retrievability;” expanding the “Safeguards;” adding language to “Retention and disposal;” making a technical change to the “System manager(s);” clarifying the “Notification,” “Record access,” and “Contesting record” procedures; and updating the “Record source categories.”

As required by 5 U.S.C. 552a(r) of the Privacy Act of 1974, as amended, and OMB Circular A-130, Appendix I, the FEC has submitted a report describing the altered system of records covered by this notice to the Office of Management and Budget and to Congress.

Dated: January 11, 2007.
Robert D. Lenhard,
Chairman, Federal Election Commission.

Table of Contents

FEC 12 Inspector General Investigative Files.

FEC 12

System name:

Inspector General Investigative Files.

Security classification:

Records in this system are sensitive but unclassified.

System location:

Federal Election Commission, Office of the Inspector General (OIG), 999 E Street, NW., Washington, DC 20463.

Categories of individuals covered by the system:

Individuals who are the subjects of complaints relating to the programs and operations of the Commission. Subjects include, but are not limited to, current and former FEC employees; current and former employees of contractors and subcontractors in their personal capacity, where applicable; and other persons whose actions affect the FEC, its programs or operations.

Categories of records in the system:

Complaints, referrals from other agencies, correspondence, investigative notes, interviews, statements from witnesses, transcripts taken during investigation, affidavits, copies of all subpoenas issued and responses thereto, interrogatories and responses thereto, reports, internal staff memoranda, staff working papers and other documents and records or copies obtained or relating to complaints and investigations. May include the name, address, telephone number, e-mail address, employment information, and financial records of the subjects.

Authority for maintenance of the system:

Inspector General Act Amendments of 1988, Pub. L. 100-504, amending the Inspector General Act of 1978, Pub. L. 95-452, 5 U.S.C. app. 3.

Purpose(s):

These records are used to document the conduct and outcome of inquiries, complaints, and investigations concerning allegations of fraud, waste, and abuse that affect the FEC. The information is used to report the results of investigations to FEC management, contractors, prosecutors, law enforcement agencies, Congress, and others for an action deemed appropriate. These records are used also to retain sufficient information to fulfill reporting requirements and to maintain records related to the OIG's activities.

Routine uses of records maintained in the system, including categories of users and the purposes of such uses:

These records and information contained in these records may be disclosed as follows:

1. To the Department of Justice when:

a. The agency, or any component thereof; or

b. Any employee of the agency in his or her official capacity; or

c. Any employee of the agency in his or her individual capacity where the Department of Justice has agreed to represent the employee; or

d. The United States, where the agency determines that litigation is likely to affect the agency or any of its components, is a party to litigation or has an interest in such litigation, and the use of such reports by the Department of Justice is deemed by the Inspector General, after careful review, to be relevant and necessary to the litigation, provided, however, that in each case the Inspector General determines that disclosure of the records to the Department of Justice is a use of the information contained in the records that is compatible with the purpose for which the records were collected.

2. To disclose them in a proceeding before a court or adjudicative body before which the agency is authorized to appear when:

a. The agency, or any component thereof; or

b. Any employee of the agency in his or her official capacity; or

c. Any employee of the agency in his or her individual capacity where the agency has agreed to represent the employee; or

d. The United States, where the agency determines that litigation is likely to affect the agency, or any of its components, is a party to litigation or has an interest in such litigation, and the Inspector General determines that, after careful review, the use of such records is relevant and necessary to the litigation, provided, however, that the Inspector General determines that disclosure of the records is compatible with the purpose for which the records were collected.

3. To the appropriate Federal, foreign, State, local, tribal, or other public authority responsible for enforcing, investigating or prosecuting such violation or charged with enforcing or implementing the statute, rule, regulation, or order issued pursuant thereto, when information indicates a violation or potential violation of law, whether civil, criminal or regulatory in nature, and whether arising by general statute or particular program statute, or by regulation, rule, or order issued pursuant thereto, if the information disclosed is relevant to any enforcement, regulatory, investigative or prosecutorial responsibility of the receiving entity.

4. To any source or potential source from which information is requested in the course of an investigation concerning the retention of an employee or other personnel action (other than hiring), or the retention of a security clearance, contract, grant, license, or other benefit, to the extent necessary to identify the individual, inform the source of the nature and purpose of the investigation, and to identify the type of information requested.

5. To a Federal, State, local, foreign, tribal or other public authority of the fact that this system of records contains information relevant to the retention of an employee, the retention of a security clearance, the letting of a contract, or the issuance or retention of a license, grant, or other benefit. The other agency or licensing organization may then make a request supported by written consent of the individual for the entire record if it so chooses. No disclosure will be made unless the information has been determined to be sufficiently reliable to support a referral to another office within the agency or to another Federal agency for criminal, civil, administrative, personnel, or regulatory action.

6. To the White House in response to an inquiry made at the written request of the individual about whom the record is maintained. Disclosure will not be made until the White House has furnished appropriate documentation of the individual's request, such as a copy of the individual's written request.

7. To a congressional office from the record of an individual in response to an inquiry from the congressional office made at the written request of the individual about whom the record is maintained. Disclosure will not be made until the congressional office has furnished appropriate documentation of the individual's request, such as a copy of the individual's written request.

8. To the National Archives and Records Administration or to the General Services Administration for records management inspections conducted under 44 U.S.C. 2903 and 2904.

9. To agency or OIG contractors (including employees of contractors), grantees, experts, or volunteers who have been engaged to assist the agency or OIG in the performance of a contract, service, grant, cooperative agreement, or other activity related to this system of records and who need to have access to the records in order to perform the activity for the agency or OIG. Recipients shall be required to comply with the requirements of the Privacy Act of 1974, as amended, 5 U.S.C. 552a.

10. To an authorized appeal grievance examiner, formal complaints examiner, equal employment opportunity investigator, arbitrator or other person properly engaged in investigation or settlement of an administrative grievance, complaint, claim, or appeal filed by an employee or former employee, but only to the extent that information is relevant and necessary to the proceeding. Agencies that may obtain information under this routine use include, but are not limited to, the Office of Personnel Management, Office of Special Counsel, Merit Systems Protection Board, Federal Labor Relations Authority, Equal Employment Opportunity Commission, and Office of Government Ethics.

11. To the Office of Personnel Management for matters concerned with oversight activities (necessary for the Office of Personnel Management to carry out its legally-authorized Government-wide personnel management programs and functions) and in their role as an investigation agency.

12. To officials of labor organizations when relevant and necessary to their duties of exclusive representation concerning personnel policies, practices, and matters affecting work conditions.

13. To agencies, offices, or establishments of the executive, legislative, or judicial branch of the Federal or State government after receipt of request and where the records or information is relevant and necessary to a decision on an employee's disciplinary or other administrative action (excluding a decision on hiring). The agency will take reasonable steps to ensure that the records are timely, relevant, accurate, and complete enough to assure fairness to the employee affected by the disciplinary or administrative action.

14. To debt collection contractors to collect debts owed to the Government, as authorized under the Debt Collection Act of 1982, 31 U.S.C. 3718, and subject to the Privacy Act safeguards.

15. To officials who have been engaged to assist the Office of Inspector General in the conduct of inquiries, complaints, and investigations who need to have access to the records in order to perform the work. This disclosure category includes members of the President's Council on Integrity and Efficiency and the Executive Council on Integrity and Efficiency, and officials and administrative staff within their chain of command. Recipients shall be required to comply with the requirements of the Privacy Act.

16. Information may be disclosed to officials charged with the responsibility to conduct qualitative assessment reviews of internal safeguards and management procedures employed in investigative operations. This disclosure category includes members of the President's Council on Integrity and Efficiency, Executive Council on Integrity and Efficiency, and officials and administrative staff within their investigative chain of command, as well as authorized officials of the Department of Justice and the Federal Bureau of Investigation. Recipients shall be required to comply with the requirements of the Privacy Act.

17. To appropriate agencies, entities, and persons when (1) It is suspected or confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure is made to such agencies, entities, and persons who are reasonably necessary to assist in connection with the Commission's efforts to respond to the suspected or confirmed compromise and prevent, minimize, or remedy such harm.

Disclosure to consumer reporting agencies:

We may disclose the record or information from this system, pursuant to 5 U.S.C. 552a(b)(12), to consumer reporting agencies as defined in the Fair Credit Reporting Act, 15 U.S.C. 1681a(f) or the Federal Claims Collection Act of 1966, as amended, 31 U.S.C. 3701(a)(3), in accordance with section 3711(f) of Title 31.

Policies and practices for storing, retrieving, accessing, retaining, and disposing of records in the system:

Storage:

Records are stored in both a paper and electronic format.

Retrievability:

The records may be retrieved by the name of the subject of the complaint/investigation or by a unique control number assigned to each complaint/investigation.

Safeguards:

The records are maintained in limited access areas within the building. Access is limited to Office of Inspector General employees whose official duties require access. The paper records and electronic information not stored on computers are maintained in lockable cabinets in a locked room. Information stored on computers is on a restricted access server located in a locked room. All electronic records are protected from unauthorized access through appropriate administrative, physical, and technical safeguards. These safeguards include the application of appropriate access control mechanisms to ensure the confidentiality, integrity, and availability of those records are only accessed by those with a need to know and dictated by their official duties.

Retention and disposal:

These records will be maintained permanently until disposition authority is granted by the National Archives and Records Administration. Upon approval, the records will be retained in accordance with NARA's schedule and disposed of in a secure manner.

System manager(s) and address:

Inspector General, Federal Election Commission, 999 E Street, NW., Washington, DC 20463, (202/694-1015).

Notification procedure:

A request for notification of the existence of records may be made in person or in writing to the FEC Inspector General, 999 E Street, NW., Washington, DC 20463. For additional information, refer to the Commission's access regulations at 11 CFR parts 1.1-1.5, 41 FR 43064 (1976).

Record access procedures:

An individual interested in gaining access to a record pertaining to him or her may make a request in person or in writing to the FEC Inspector General at the following address: 999 E Street, NW., Washington, DC 20463. For additional information, refer to the Commission's access regulations at 11 CFR parts 1.1-1.5, 41 FR 43064 (1976).

Contesting record procedures:

Individuals interested in contesting the information contained in their records or the denial of access to such information should notify the FEC Inspector General at the following address: 999 E Street, NW., Washington, DC, 20463. For additional information, refer to the Commission's regulations for contesting initial denials for access to or amendment of records, 11 CFR parts 1.7-1.9, 41 FR 43064 (1976).

Record source categories:

Complaints, subjects, third parties who have been requested to produce relevant information, referring agencies, and OIG personnel assigned to handle complaints/investigations.

Exemptions claimed for the system:

System exempt under 5 U.S.C. 552a(j)(2) and 5 U.S.C. 552a(k)(2). See 11 CFR 1.14.

[FR Doc. E7-955 Filed 1-23-07; 8:45 am]

BILLING CODE 6715-01-P